DEPARTMENT OF COMMERCE

Census Bureau

Submission For OMB Review; Comment Request

DOC has submitted to the Office of Management and Budget (OMB) for clearance the following proposal for collection of information under the provisions of the Paperwork Reduction Act (44 U.S.C. chapter 35).

Agency: U.S. Census Bureau.

Title: American Community Survey.

Form Number(s): ACS-1(2005); ACS-1(2005)SP; ACS-1(2005)PR(SP); ACS-1(2005)PR; ACS-290; ACS-1(GQ); ACS-4(GQ).

Agency Approval Number: 0607-0810.

Type of Request: Revision of a currently approved collection.

Burden: 1,917,410 hours.

Number of Respondents: 3,122,900.

Avg Hours Per Response: Households: initial survey—38 minutes; reinterview—10 minutes. GQ Contacts: initial contact—25 minutes; reinterview—10 minutes. GQ persons: 15 minutes.

Needs and Uses: The U.S. Census Bureau requests authorization from the Office of Management and Budget (OMB) to continue conducting the American Community Survey. The Census Bureau has developed a methodology to collect and update every year demographic, social, economic, and housing data that are essentially the same as the “long-form” data that the Census Bureau traditionally has collected once a decade as part of the decennial census. The American Community Survey is the information collection tool enabling this continuous measurement methodology. Federal and State government agencies use such data to evaluate and manage Federal programs and to distribute funding for various programs which include food stamps, transportation dollars, and housing grants. State, county, and community governments, nonprofit organizations, businesses, and the general public use information like housing quality, income distribution, journey-to-work patterns, immigration data, and regional age distributions for decision making and program evaluation.

In January 2005, the Census Bureau began full implementation of the American Community Survey. The American Community Survey will have an annual sample of nearly 3 million households. In addition, we will select approximately 3,000 residential addresses per month in Puerto Rico and refer to the survey as the Puerto Rico Community Survey.

Using the Master Address File (MAF) from the decennial census that is updated each year, we will mail survey forms each month to a new group of potential households, use reverse look-up directories to obtain telephone numbers of households which have not responded, and attempt to conduct interviews over the telephone. Upon completion of the telephone follow-up, we will select a subsample of the remaining households which have not responded, typically at a rate of one in three, to designate a household for a personal interview. Collecting these data from a new sample of households every month will not only provide more timely data but will lessen respondent burden in the decennial census.

We will continue to use the trimodal data collection operation already in place. We will attempt to collect data by mailing the ACS-1(2005) to the sample households. Households requiring a survey form in Spanish can request form ACS-1(2005)(SP). For Puerto Rico households, we will mail the ACS-1(2005)PR(SP). An English form ACS-1(2005)PR can also be requested. We will use computer-assisted telephone interviewing (CATI) to conduct telephone interviews for all households that do not respond by mail and for which we are able to obtain telephone numbers. We will use computer-assisted personal interviewing (CAPI) to conduct personal interviews for a sample of addresses for which we do not have a mail or CATI interview.

In addition to selecting a sample of residential addresses, we will select a sample of group quarters (GQs). Starting in January 2006, field representatives (FRs) will use the ACS-290(PT) to select a sample of people to interview within the GQs.

We will also conduct a reinterview operation to monitor the performance of FRs. Only households that provide an interview via CAPI are eligible for reinterview. A reinterview operation will also be undertaken for the Group Quarters contacts.

Affected Public: Individuals or households; business or other for-profit; not-for-profit institutions; Federal government; State, local or tribal government.

Frequency: The American Community Survey is conducted in a new sample of households every month.

Respondent's Obligation: Mandatory.

Legal Authority: Title 13 U.S.C. Sections 141, 193, and 221.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: March 4, 2005.
Madeleine Clayton,
Management Analyst, Office of the Chief Information Officer.

[FR Doc. 05-4574 Filed 3-8-05; 8:45 am]

BILLING CODE 3510-07-P